SECURITIES AND EXCHANGE COMMISSION

[Release No.: 34-92332]

Public Availability of the Securities and Exchange Commission's FY2018 Service Contract Inventory

AGENCY: Securities and Exchange Commission.

ACTION: Notice.

In accordance with Section 743 of Division C of the Consolidated Appropriations Act of 2010 (Pub. L. 111-117), SEC is publishing this notice to advise the public of the availability of the FY2018 Service Contract Inventory (SCI) along with the FY2018 SCI Analysis.

The SCI provides information on FY2018 actions above the simplified acquisition threshold for service contracts. The inventory organizes the information by function to show how SEC distributes contracted resources throughout the agency. SEC developed the inventory per the guidance issued on January 17, 2017, by the Office of Management and Budget's Office of Federal Procurement Policy (OFPP). OFPP's guidance is available at https://www.whitehouse.gov/sites/whitehouse.gov/files/omb/memoranda/2017/service_contract_inventories.pdf.

The Service Contract Inventory Analysis for FY2018 provides information based on the FY2018 Inventory. Please note that the SEC's FY2018 Service Contract Inventory data is now included in government-wide inventory available on www.acquisition.gov. The government-wide inventory can be filtered to display the inventory data for the SEC. The SEC has posted its FY2019 plans for analyzing data, a link to the FY2018 government-wide Service Contract Inventory, the FY2018 SCI Analysis on the SEC's homepage at http://www.sec.gov/about/secreports.shtml and http://www.sec.gov/open.

FOR FURTHER INFORMATION CONTACT: Direct questions regarding the service contract inventory to Vance Cathell, Director Office of Acquisitions 202.551.8385 or CathellV@sec.gov.

Dated: July 7, 2021.
Vanessa A. Countryman,
Secretary.

[FR Doc. 2021-14734 Filed 7-9-21; 8:45 am]

BILLING CODE 8011-01-P